DEPARTMENT OF COMMERCE

National Oceanic and Atmospheric Administration

Notice of Availability of a Draft Environmental Impact Statement for the Proposed Lake Ontario National Marine Sanctuary; Announcement of Public Meetings; Request for Public Comments

AGENCY: Office of National Marine Sanctuaries (ONMS), National Ocean Service (NOS), National Oceanic and Atmospheric Administration (NOAA), Department of Commerce (DOC).

ACTION: Notice of availability and public meetings; Request for public comments.

SUMMARY: The National Oceanic and Atmospheric Administration (NOAA) has prepared a draft environmental impact statement (DEIS) that considers three alternatives for the proposed designation of a national marine sanctuary to manage a nationally significant collection of shipwrecks and other underwater cultural resources in New York's eastern Lake Ontario and the Thousand Islands region of the St. Lawrence River. NOAA also prepared a draft management plan that describes the proposed goals, objectives, and strategies for managing the proposed sanctuary. NOAA is soliciting public comment on the DEIS and draft management plan.

DATES: NOAA will consider all comments received by September 10, 2021. NOAA will conduct public meetings on the following dates:

(1) Date: August 18, 2021, Location: Lake Ontario Event and Conference Center, Address: 26 East First Street, Oswego, NY 13126, Time: 6:30 p.m. to 8:30 p.m. EDT. A virtual meeting platform may substitute if public safety concerns remain to prevent the spread of COVID-19.

(2) Date: August 19, 2021, Location: Clayton Opera House, Address: 405 Riverside Drive, Clayton, NY 13624, Time: 6:30 p.m. to 8:30 p.m. EDT. A virtual meeting platform may substitute if public safety concerns remain to prevent the spread of COVID-19.

(3) Date: August 24, 2021, Location: virtual meeting, Time: 2:30 p.m. to 4:00 p.m. EDT

(4) Date: August 26, 2021, Location: virtual meeting, Time: 6:30 p.m. to 8:00 p.m. EDT

ADDRESSES: Comments may be submitted by the following method:

Electronic Submissions: Submit all electronic public comments via the Federal e-Rulemaking Portal. Go to www.regulations.gov and search for “NOAA-NOS-2021-0050”, and click the “Comment Now!” icon, complete the required fields, and enter or attach your comments.

Instructions: Comments sent by any other method, to any other address or individual, or received after the end of the comment period, may not be considered by NOAA. All comments received are a part of the public record and will generally be posted for public viewing on www.regulations.gov without change. All personal identifying information (for example, name, address, etc.), confidential business information, or otherwise sensitive information submitted voluntarily by the commenter will be publicly accessible. NOAA will accept anonymous comments (enter “N/A” in the required fields if you wish to remain anonymous).

Copies of the DEIS can be downloaded or viewed on the internet at www.regulations.gov (search for docket NOAA-NOS-2021-0050) or at http://sanctuaries.noaa.gov/lake-ontario/. Copies can also be obtained by contacting Ellen Brody (in the FOR FURTHER INFORMATION CONTACT section of this notice).

FOR FURTHER INFORMATION CONTACT: Ellen Brody, Great Lakes Regional Coordinator, address: 4840 South State Road, Ann Arbor, MI 48108-9719; phone: 734-741-2270; email: ellen.brody@noaa.gov.

SUPPLEMENTARY INFORMATION:

I. Background

The National Marine Sanctuaries Act (NMSA; 16 U.S.C. 1431 et seq.) authorizes the Secretary of Commerce (Secretary), through NOAA, to designate and protect as national marine sanctuaries areas of the marine environment that are of special national significance due to their conservation, recreational, ecological, historical, scientific, cultural, archeological, educational, or esthetic qualities. Day-to-day management of national marine sanctuaries has been delegated by the Secretary to NOAA's Office of National Marine Sanctuaries (ONMS). The primary objective of the NMSA is to protect the sanctuary system's biological and cultural resources, such as coral reefs, marine animals, historic shipwrecks, other historic structures, and archaeological sites.

In the DEIS, NOAA's proposed action is to designate a national marine sanctuary in New York's eastern Lake Ontario and the Thousand Islands region of the St. Lawrence River to manage a nationally significant collection of shipwrecks and other underwater cultural resources. This area would include up to 1,786 square miles of lake waters and bottomlands adjacent to Jefferson, Wayne, Oswego, Cayuga, and St. Lawrence counties in the state of New York. The proposed area contains 64 known shipwrecks and one aircraft representing events spanning more than 200 years of our nation's history. Based on historical records, an additional 20 shipwrecks and three aircraft may be located there. NOAA proposes to designate the area as a national marine sanctuary to protect these significant underwater cultural resources through a regulatory and non-regulatory framework; document, further locate, and monitor these resources; provide interpretation of their cultural, historical, and educational value to the public; promote responsible use of these resources for their recreational value; and promote recreation, tourism, and economic development opportunities in the region. NOAA would co-manage the sanctuary with the state of New York.

On January 17, 2017, pursuant to section 304 of the NMSA and the sanctuary nomination process (79 FR 33851), leaders of four counties (Oswego, Jefferson, Cayuga, and Wayne) and the City of Oswego, with support from Governor Andrew Cuomo, submitted a nomination asking NOAA to consider designating a national marine sanctuary in eastern Lake Ontario waters to protect, and increase awareness of, a nationally significant collection of shipwrecks. NOAA accepted the nomination March 21, 2017 and initiated the sanctuary designation process by issuing a Notice of Intent on April 17, 2019 to conduct scoping and prepare a DEIS (84 FR 16004). Scoping included a 105-day public period during which NOAA solicited public comments related to the scale and scope of the proposed sanctuary. In addition, NOAA hosted four public meetings in June 2019 and accepted comments through a web-based portal and by traditional mail until July 31, 2019. During the scoping period, 82 individuals provided written input. About 165 people attended the four scoping meetings, with 28 people providing oral comments. In February 2020, NOAA established a Sanctuary Advisory Council to bring members of the local community together to provide advice to NOAA and serve as a liaison with the nominating community throughout the designation process.

II. NOAA's Proposed Action

In accordance with the National Environmental Policy Act (NEPA, 42 U.S.C. 4321 et seq.) and the NMSA (16 U.S.C. 1434), NOAA has prepared a DEIS that considers three alternatives for the proposed national marine sanctuary. This DEIS analyzes and summarizes the environmental consequences of the proposed action and alternatives. The alternatives include proposed sanctuary boundaries, proposed regulatory concepts, and a draft sanctuary management plan to support the management and protection of sanctuary resources. NOAA has not selected a preferred alternative. In accordance with section 304(a) of the NMSA, the DEIS also serves as a resource assessment that documents present and potential uses of the area. The draft management plan outlines a series of goals and strategies in the areas of research and monitoring, education and outreach, tourism and economic development, sanctuary resource protection, and sanctuary operations.

NOAA is seeking public comment on the DEIS and draft management plan, which are available at https://sanctuaries.noaa.gov/lake-ontario or may be obtained by contacting the individual listed under the heading FOR FURTHER INFORMATION CONTACT. While members of the public can comment on any aspect of the DEIS and draft management plan, NOAA requests specific comment on: Whether NOAA should move forward with the No Action Alternative, Alternative 1, or Alternative 2 for the rest of the designation process; the regulatory concepts NOAA proposes to use to create regulations for the sanctuary in the next phase of the process; the proposed goals, strategies, and activities for managing the sanctuary that are outlined in the draft management plan; and ideas for a sanctuary name that reflects the special significance of the area.

In addition, as part of its compliance with Section 106 of the National Historic Preservation Act (16 U.S.C. 470f), and its implementing regulations (36 CFR 800), NOAA is seeking public comment under 800.14(b)(2)(ii) of the National Historic Preservation Act to inform its development of a Programmatic Agreement with the state of New York to provide a process for consideration of future undertakings that may result from management of the proposed sanctuary, associated field operations, and other routine activities, if the sanctuary is designated. Following public comment on the DEIS and draft management plan, NOAA will prepare and release for public comment draft regulations for the proposed sanctuary. At that time, a detailed discussion of the regulatory text will be included in the notice of proposed rulemaking and published in the Federal Register for public comment.

Authority: 16 U.S.C. 1431 et seq.

Rebecca R. Holyoke,
Acting Director, Office of National Marine Sanctuaries.

[FR Doc. 2021-14221 Filed 7-6-21; 8:45 am]

BILLING CODE 3510-NK-P